DEPARTMENT OF HEALTH AND HUMAN SERVICES

National Institutes of Health

Submission for OMB Review; 30-Day Comment Request Collection of Grants and Contracts Data the Historically Black Colleges and Universities (HBCUs) and Small Businesses May Be Interested in Pursuing (Office of the Director); Correction

AGENCY: National Institutes of Health, HHS.

ACTION: Notice; correction.

SUMMARY: The Department of Health and Human Services, National Institutes of Health published a Notice in the Federal Register on January 29, 2024. That Notice requires a correction in the SUPPLEMENTARY INFORMATION section.

FOR FURTHER INFORMATION CONTACT: To request more information on the proposed project or to obtain a copy of the data collection plans and instruments, contact: Keondra Watts, Program Analyst, NIH, Office of the Director, Office of Acquisitions and Logistics Management, Small Business Program Office, 6701 Rockledge Dr., Bethesda, MD 20892-7786, or call non-toll-free number (301) 443-8722 or Email your request, including your address to: Keondra.Watts@nih.gov.

SUPPLEMENTARY INFORMATION:

Correction

In the Federal Register of January 29, 2024 in FR Doc. 2024-01698, on page 89 FR 5551, as found within the SUPPLEMENTARY INFORMATION section. Currently reads “six HBCU participants” and is corrected to read: “nineteen HBCU participants”.

Kelly L. Daughtridge,
Federal Register Liaison, National Institutes of Health.

[FR Doc. 2024-02010 Filed 1-31-24; 8:45 am]

BILLING CODE 4140-01-P